COMMITTEE FOR THE IMPLEMENTATION OF TEXTILE AGREEMENTS

Adjustment of the 2007 Quota Period and Elimination of Quota, and Visa and ELVIS Requirements to Account for the Accession of the Socialist Republic of Vietnam into the World Trade Organization

January 8, 2007.

AGENCY: Committee for the Implementation of Textile Agreements (CITA).

Action: Issuing a directive to the Commissioner, Bureau of Customs and Border Protection concerning the adjustment of the 2007 quota period and elimination of quota, visa and ELVIS requirements to account for the accession of Vietnam into the world Trade Organization (WTO).

EFFECTIVE DATE: January 11, 2007.

FOR FURTHER INFORMATION CONTACT: Ross Arnold, International Trade Specialist, Office of Textiles and Apparel, U.S. Department of Commerce (202) 482-4212. For information on the quota status of these limits, refer to the Bureau of Customs and Border Protection website (http://www.cbp.gov), or call (202) 344-2650. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The Bilateral Textile Agreement of July 17, 2003, as amended on July 22, 2004, between the Governments of the United States and the Socialist Republic of Vietnam, establishes limits, until the Socialist Republic of Vietnam's entry into the World Trade Organization (WTO), for certain cotton, wool and man-made fiber textiles and textile products, produced or manufactured in the Socialist Republic of Vietnam and exported during the period January 1, 2007 through December 31, 2007, as described in the document published in the Federal Register on December 22, 2006 (71 FR 76998), and amended in the document published on December 29, 2006 (71 FR 78409).

Vietnam will enter the WTO on January 11, 2007. As a result, in the letter published below, the Chairman of CITA directs the Commissioner, Bureau of Customs and Border Protection to change the 2007 quota period to January 1 through January 10, 2007, and eliminate quota, and visa and ELVIS requirements for goods exported from Vietnam on and after January 11, 2007. The quota levels set forth and amended in the aforementioned documents remain the same in the adjusted period.

Goods exported from Vietnam prior to January 11, 2007 will continue to be charged to the applicable quota (either 2006 or January 1 through January 10, 2007), and paper visa and ELVIS requirements will remain in effect for goods exported from Vietnam prior to January 11, 2007.

A description of the textile and apparel categories in terms of HTS numbers is available in the CORRELATION: Textile and Apparel Categories with the Harmonized Tariff Schedule of the United States (refer to the Office of Textiles and Apparel website at http://otexa.ita.doc.gov).

R. Matthew Priest,
Chairman, Committee for the Implementation of Textile Agreements.

Committee for the Implementation of Textile Agreements

January 8, 2007

Commissioner,

Bureau of Customs and Border Protection, Washington, DC 20229.

Dear Commissioner: This directive amends, but does not cancel, the directive issued to you on December 19, 2006, amended by the document issued to you on December 22, 2006, by the Chairman, Committee for the Implementation of Textile Agreements. Those directives concern imports of cotton, wool and man-made fiber textiles and textile products produced or manufactured in Vietnam and exported during the twelve-month period beginning on January 1, 2007 and extending through December 31, 2007.

Vietnam will enter the World Trade Organization (WTO) on January 11, 2007. Effective on January 11, 2007, you are directed to change the 2007 quota period to January 1 through January 10, 2007 and eliminate quota, and visa and ELVIS requirements for goods exported from Vietnam on and after January 11, 2007. The quota levels set forth and amended in the aforementioned documents remain the same in the adjusted period.

Shipments exported from Vietnam on and after January 11, 2007 will not be charged to the adjusted 2007 quota limits. The paper visa and ELVIS transmission will not be required for shipments exported from Vietnam on and after January 11, 2007. Goods exported from Vietnam prior to January 11, 2007 will continue to be charged to the applicable quota (either 2006 or January 1 through January 10, 2007), and paper visa and ELVIS requirements will remain in effect for goods exported from Vietnam prior to January 11, 2007.

The Committee for the Implementation of Textile Agreements has determined that these actions fall within the foreign affairs exception of the rulemaking provisions of 5 U.S.C. 553(a)(1).

Sincerely,

R. Matthew Priest,

Chairman, Committee for the Implementation of Textile Agreements.

[FR Doc. 07-65 Filed 1-8-07; 11:41 am]

BILLING CODE 3510-DS-S